POSTAL SERVICE

39 CFR Part 20

International Product Change

AGENCY: Postal Service.

ACTION: Final rule.

SUMMARY: The Postal Service ™ is issuing a final rule revising requirements contained in the International Mail Manual (IMM) concerning the contents of notifications of International Customized Mail (ICU) agreements.

DATES: Effective Date: July 10, 2007.

FOR FURTHER INFORMATION CONTACT: Margaret M. Falwell, 703-292-3576; or James Crawford, 703-292-3614.

SUPPLEMENTARY INFORMATION: International Customized Mail (ICM) agreements are specialized, mailer-specific, agreements entered into by the Postal Service which provide discounted rates from the base rates for existing categories and services of international mail. Postal Service regulations published at IMM 297 require that routine notices be published within prescribed periods identifying the salient terms of each ICM. In particular, information required to be published about each ICM include extensive information about each ICM. In particular, information required to be published about each ICM include extensive information about each ICM, including the term, type of mail involved, destination country or countries, description of services provided by the Postal Service, minimum volume commitments for each service, brief descriptions of any work-sharing performed by the mailer, and the agreed-upon rate for each service at the volume level committed by the mailer.

The underlying rationale for this final rule is based on recently enacted amendments to the Postal Service's organic statute. On December 20, 2006, the Postal Accountability and Enhancement Act (PAEA), Pub. L. No. 109-435, became law. The PAEA fundamentally changes the Postal Service's business model by converting former requirements to operate on a break-even basis to a more commercial, profit-making business model. The PAEA further gives the Postal Service considerable flexibility in pricing competitive services. In addition, the PAEA makes various commercial laws, such as antitrust, Federal Trade Commission unfair competition law, and private sector customs requirements, as well as an assumed federal income tax applicable to the Postal Service's competitive services.

Under the PAEA, bulk international mail, which includes bulk mailings entered in combination with an ICM, could reasonably be classified as falling within the “competitive” category of mail, for which there are abundant, alternative providers. Thus, competitive services should observe commercial business practices. In general, private businesses do not publicize information about recently executed customer agreements; rather, such instruments are regarded as closely held commercial information. Consequently, in accordance with industry practice, continued publication of comprehensive information about the terms of ICMs would be inconsistent with their competitive status.

Hence, the Postal Service is publishing this final rule to provide an appropriate level of information about each ICM in view of their commercial sensitivity.

We adopt the following changes to the Mailing Standards of the United States Postal Service, International Mail Manual (IMM), incorporated by reference in the Code of Federal Regulations. See 39 CFR 20.1.

List of Subjects in 39 CFR Part 20

Foreign relations, International postal services.

PART 20—[AMENDED]

1. The authority citation for 39 CFR Part 20 continues to read as follows:

Authority: 5 U.S.C. 552(a); 39 U.S.C. 401, 404, 407, 408.

2. Revise International Mail Manual as follows:

* * * * *

2 Conditions for Mailing

* * * * *

290 Commercial Services

* * * * *

297 International Customized Mail

* * * * *

297.4 Postal Bulletin Notifications

[Revise 297.4 as follows]

Within 30 days of entering into an ICM service agreement, the Postal Service will publish the name of the customer in the Postal Bulletin.

Stanley F. Mires,
Chief Counsel, Legislative.

[FR Doc. 07-3332 Filed 7-9-07; 8:45 am]

BILLING CODE 7710-12-M